FEDERAL COMMUNICATIONS COMMISSION

47 CFR Part 73

[DA 02-1155; MM Docket No. 01-186; RM-9976 & RM-10320]

Radio Broadcasting Services; Honor, Bear Lake, Ludington, Walhalla, & Custer, MI

AGENCY: Federal Communications Commission.

ACTION: Final rule.

SUMMARY: This Notice in this proceeding proposed the substitution of Channel 264C3 for Channel 264A at Honor, Michigan, and modification of the authorization for Station WIAR to specify operation on Channel 2643C in response to a petition filed by Northern Radio of Michigan, Inc. Substitutions were also requested at Bear Lake, Ludington and Walhalla, Michigan. See 66 FR 44586, August 24, 2001. In response to a counterproposal filed by Mason County Broadcasting Company, action in this document allots Channel 263A at Custer, Michigan, as a first local service at coordinates 43-59-10 and 86-14-11. There is a site restriction 4 kilometers (2.5 miles) north of the community. Canadian concurrence has been received for the allotment of Channel 263A at Custer. The issue of opening this allotment for auction will be addressed by the Commission in a subsequent order. With this action, this proceeding is terminated.

DATES: Effective July 1, 2002.

FOR FURTHER INFORMATION CONTACT: Kathleen Scheuerle, Media Bureau, (202) 418-2180.

SUPPLEMENTARY INFORMATION: This is a summary of the Commission's Report and Order, MM Docket No. 01-186, adopted May 1, 2002, and released May 17, 2002. The full text of this Commission decision is available for inspection and copying during normal business hours in the FCC Reference Information Center, Portals II, 445 12th Street, SW, Room CY-A257, Washington, DC 20554. The document may also be purchased from the Commission's duplicating contractor, Qualex International, Portals II, 445 12th Street, SW, Room CY-B402, Washington, DC, 20554 telephone 202-863-2893, facsimile 202-863-2898, or via e-mail qualexint@aol.com.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Michigan, is amended by adding Custer, Channel 236A.

Federal Communications Commission.
John A. Karousos,
Assistant Chief, Audio Division, Office of Broadcast License Policy, Media Bureau.

[FR Doc. 02-13824 Filed 5-31-02; 8:45 am]

BILLING CODE 6712-01-P